DEPARTMENT OF THE INTERIOR

Fish and Wildlife Service

Endangered and Threatened Species Permit Applications

AGENCY: Fish and Wildlife Service, Interior.

ACTION: Notice of receipt of applications.

SUMMARY: The following applicants have applied for a scientific research permit to conduct certain activities with endangered species pursuant to section 10(a)(1)(A) of the Endangered Species Act of 1973, as amended (16 U.S.C. 1531, et seq.).

DATES: Written comments on these permit applications must be received within 30 days of the date of publication.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8 to 4:30) at the U.S. Fish and Wildlife Service, 500 Gold Ave. SW, Room 4102, Albuquerque, New Mexico. Please refer to the respective permit number for each application when submitting comments. All comments received, including names and addresses, will become part of the official administrative record and may be made available to the public.

FOR FURTHER INFORMATION CONTACT: Chief, Endangered Species Division, Ecological Services, P.O. Box 1306, Room 4102, Albuquerque, New Mexico 87103. Documents and other information submitted with these applications are available for review, subject to the requirements of the Privacy Act and Freedom of Information Act, by any party who submits a written request to the address above for a copy of such documents within 30 days of the date of publication of this notice.

SUPPLEMENTARY INFORMATION:

Permit No. TE-060299

Applicant: Bruce Pavlick, Tucson, Arizona.

Applicant requests a new permit for research and recovery purposes to conduct presence/absence surveys for cactus ferruginous pygmy owl (Glaucidium brasilianum cactorum) within Arizona.

Permit No. TE-066684

Applicant: Peter Abraham, Tucson, Arizona.

Applicant requests a new permit for research and recovery purposes to conduct presence/absence surveys for cactus ferruginous pygmy owl (Glaucidium brasilianum cactorum) within Arizona.

Permit No. TE-065394

Applicant: David Cowley, Las Cruces, New Mexico.

Applicant requests a new permit for research and recovery purposes to survey for and collect specimens of Rio Grande silvery minnow (Hybognathus amarus) within New Mexico.

Permit No. TE-065393

Applicant: Robert Thompson, Tucson, Arizona.

Applicant requests a new permit for research and recovery purposes to conduct presence/absence surveys for cactus ferruginous pygmy owl (Glaucidium brasilianum cactorum) within Arizona.

Permit No. TE-840331

Applicant: Arizona State Land Department, Flagstaff, Arizona.

Applicant requests an amendment to an existing permit to allow presence/absence surveys for southwestern willow flycatcher (Empidonax traillii extimus) and cactus ferruginous pygmy owl (Glaucidium brasilianum cactorum) within Arizona.

Permit No. TE-826091

Applicant: Bureau of Land Management—Phoenix Field Office, Phoenix, Arizona.

Applicant requests an amendment to an existing permit to allow presence/absence and monitoring surveys for, capture of, and modification of habitat of Sonoran pronghorn (Antilocapra americana sonoriensis) within Arizona.

Permit No. TE-066458

Applicant: The National Aquarium, Washington, D.C.

Applicant request a new permit for purposes of education display to collect the following species: Texas blind salamander (Typhlomolge rathbuni), fountain darter (Etheostoma fonticola), bonytail chub (Gila elegans), Rio Grande silvery minnow (Hybognathus amarus), desert pupfish (Cyprinodon macularius), Leon Springs pupfish (Cyprinodon bovinus), razorback sucker (Xyrauchen texanus), Gila topminnow (Poeciliopsis occidentalis), and woundfin (Plagopterus argentissimus). All specimens will be collected from either the San Marcos National Fish Hatchery, San Marcos, Texas or the Dexter National Fish Hatchery, Dexter, New Mexico.

Permit No. TE-023152

Applicant: Michael Baker Jr., Inc., Phoenix, Arizona.

Applicant requests an amendment to an existing permit to allow presence/absence surveys for southwestern willow flycatcher (Empidonax traillii extimus) within Arizona.

Permit No. TE-828963

Applicant: Connors State College, Warner, Oklahoma.

Applicant requests an amendment to an existing permit to allow presence/absence surveys for red-cockaded woodpecker (Picoides borealis) within Oklahoma.

Permit No. TE-028652

Applicant: Jean Krejca, Austin, Texas.

Applicant requests an amendment to an existing permit to allow presence/absence surveys for, mapping, and collection of the following species within Texas: Government Canyon Bat Cave spider (Neoleptoneta microps), Government Canyon Bat Cave meshweaver (Cicurina vespera), Braken Bat Cave meshweaver (Cicurina venii), Madla Cave meshweaver (Cicurina madla), Robber Baron Cave meshweaver (Cicurina baronia), Cokendolpher cave harvestman (Texella cokendolpheri), Helotes mold beetle (Batrisodes venyivi), [unnamed] ground beetle (Rhadine infernalis), and [unnamed] ground beetle (Rhadine exilis).

Permit No. TE-066226

Applicant: Amanda Moors, Globe, Arizona.

Applicant requests a new permit for research and recovery purposes to conduct presence/absence surveys for the following species: Cactus ferruginous pygmy owl (Glaucidium brasilianum cactorum), Sonoran pronghorn (Antilocapra americana sonoriensis), and Mount Graham red squirrel (Tamiasciurus hudsonicus grahamensis) within Arizona; Yuma clapper rail (Rallus longirostris yumanensis) within Arizona and California; lesser long-nosed bat (Leptonycteris curasoae yerbabuenae) within Arizona and New Mexico; Mexican long-nosed bat (Leptonycteris nivalis) within New Mexico and Texas; and southwestern willow flycatcher (Empidonax traillii extimus) within Arizona, California, New Mexico, Texas, and Utah.

Permit No. TE-066229

Applicant: Whitenton Group, San Marcos, Texas.

Applicant request a new permit for research and recovery purposes to conduct presence/absence surveys for the following species within Texas: Golden-cheeked warbler (Dendroica chrysoparia), black-capped vireo (Vireo atricapillus), piping plover (Charadrius melodus), red-cockaded woodpecker (Picoides borealis), northern aplomado falcon (Falco femoralis septentrionalis), fountain darter (Etheostoma fonticola), San Marcos gambusia (Gambusia georgei), ocelot (Leopardus pardalis), jaguarundi (Herpailurus yagouaroundi cacomitli), Barton Springs salamander (Eurycea sosorum), bonytail chub (Gila elegans), Texas blind salamander (Typhlomolge rathbuni), and Houston toad (Bufo houstonensis).

Permit No. TE-037155

Applicant: BIO-WEST, Logan, Utah.

Applicant requests an amendment to an existing permit to allow surveys for and collection of Colorado pikeminnow (Ptychocheilus lucius) and razorback sucker (Xyrauchen texanus) within New Mexico, Colorado, and Utah.

Susan MacMullin,
Acting Assistant Regional Director, Ecological Services, Region 2, Albuquerque, New Mexico.

[FR Doc. 03-2993 Filed 2-6-03; 8:45 am]

BILLING CODE 4310-55-P